NATIONAL SCIENCE FOUNDATION

Proposed Changes in the Text of Privacy Act Notices, NSF-50 and NSF-51

AGENCY: National Science Foundation.

ACTION: Proposed changes in the text of NSF-50: Principal Investigator/Proposal File and Associated Records; and in NSF-51, a subsystem of NSF-50.

Authority: 44 U.S.C. 3101; 42 U.S.C. 1870.

SUMMARY: Pursuant to the Privacy Act of 1974 (5 U.S.C. 552a), the National Science Foundation is providing notice of revisions to two existing systems of records. These changes more adequately describe the systems and update the “routine uses.” All revised system notices are reprinted in their entirety.

The two revised systems are NSF-50, “Principal Investigator/Proposal File and Associated Records” and NSF-51, “Reviewer/Proposal File and Associated Records.” NSF-50 systems include records maintained by NSF as a result of applications for financial support and subsequent evaluation of applicants and their proposals. NSF-50 contains records on research and other proposals jointly submitted by individual applicants (principal investigators) and their home academic or other institutions. NSF makes awards to these institutions under which the individual applicants serve as principal investigators.

NSF-51 is a subsystem of the “Principal Investigator/Proposal File and Associated Records” system and contains the reviewer's name, proposal title and its identifying number, and other related material. The system enables program offices to reference specific reviewers and maintain appropriate files for use in evaluating applications for grants or other support.

In accordance with the requirements of the Privacy Act, NSF has provided a report on the proposed systems revisions to the Office of Management and Budget; the Chairman, Senate Committee on Governmental Affairs; and the Chairman, House Committee on Government Reform and Oversight.

DATES: Effective Date: Section 552a(3)(4) and (11) of Title 5 of the U.S. Code provide the public thirty days to comment on the routine uses of systems of records. The altered routine uses in this notice will take effect 30 days after publication unless modified by a subsequent notice to incorporate comments received from the public.

ADDRESSES: Address all comments concerning this notice to Leslie Jensen, National Science Foundation, Office of the General Counsel, Room 1265, 4201 Wilson Boulevard, Arlington, Virginia 22230.

SUPPLEMENTARY INFORMATION: You may submit comments by sending electronic mail (E-mail) to ljensen@nsf.gov.

Submit comments as an ASCII file avoiding the use of special characters and any form of encryption. Identify all comments sent in electronic e-mail with Subject Line: Comments to proposed changes.

FOR FURTHER INFORMATION CONTACT: Leslie Jensen: (703) 292-8060.

Lawrence Rudolph,
General Counsel.

Text: Proposed Changes

NSF-50

System name:

Principal Investigator/Proposal file and Associated Records.

System location:

Files are maintained both centrally and by individual NSF offices and programs at the National Science Foundation, 4201 Wilson Boulevard, Arlington, Virginia 22230.

Categories of individuals covered by the system:

Persons who request or have previously requested and/or received support from the National Science Foundation, either individually or through an academic or other institution.

Categories of records in the system:

The names of principal investigators and other identifying information, addresses of principal investigators, demographic data, the proposal and its identifying number, supporting data from the academic institution or other applicant, proposal evaluations from peer reviewers, a review record, financial data, and other related material. Other related material may include, for example, committee or panel discussion summaries as applicable.

Authority for maintenance of the system:

44 U.S.C. 3101; 42 U.S.C. 1870.

Purpose of the system:

This system enables program offers to maintain appropriate files and investigatory material in evaluating applications for grants or other support. NSF employees may access the system to make decisions regarding which proposals to fund, and to carry out other authorized internal duties. Information on principal investigators is also entered in System 51, “Reviewer/Proposal File and Associated Records,” a subsystem of this system, to be used as a source of potential candidates to serve as reviewers as part of the merit review process, or for inclusion on a panel or advisory committee.

Routine uses of records maintained in the system, including categories of users and the purposes of such uses:

1. Disclosure of information from the system may be made to qualified reviewers for their opinion and evaluation of applicants and their proposals as part of the NSF application review process; and to other Government agencies or other entities needing information regarding applicants or nominees as part of a joint application review process, or in order to coordinate programs or policy.

2. Information from the system may be provided to the applicant or grantee institution to provide or obtain data regarding the application review process or award decisions, or administering grant awards.

3. Disclosure may be made to a Congressional office from the record of an individual in response to an inquiry from the Congressional office made at the request of that individual.

4. Information from the system may be disclosed to contractors, grantees, volunteers, experts, advisors, and other individuals who perform a service to or work on or under a contract, grant, cooperative agreement, advisory committee, committee of visitors, or other arrangement with or for the Federal government, as necessary to carry out their duties in pursuit of the purposes described above. The contractors are subject to the provisions of the Privacy Act.

5. Information from the system may be merged with other computer files in order to carry out statistical studies or otherwise assist NSF with program management, evaluation, and reporting. Disclosure may be made for this purpose to NSF contractors and collaborating researchers, other Government agencies, and qualified research institutions and their staffs. Disclosures are made only after scrutiny of research protocols and with appropriate controls. The results of such studies are statistical in nature and do not identify individuals.

6. Information from the system may be disclosed to the Department of Justice or the Office of Management and Budget for the purpose of obtaining advice on the application of the Freedom of Information Act or Privacy Act to the records.

7. Information from the system may be given to another Federal agency, a court, or a party in litigation before a court or in an administrative proceeding being conducted by a Federal agency when the Government is a party to the judicial or administrative proceeding.

8. Information from the system may be given to the Department of Justice, to the extent disclosure is compatible with the purpose for which the record was collected and is relevant and necessary to litigation or anticipated litigation, in which one of the following is a party or has an interest: (a) NSF or any of its components; (b) an NSF employee in his/her official capacity; (c) an NSF employee in his/her individual capacity when the Department of Justice is representing or considering representing the employee; or (d) the United States, when NSF determines that litigation is likely to affect the Agency.

9. Records from this system may be disclosed to representatives of the General Services Administration and the National Archives and Records Administration who are conducting records management inspections under the authority of 44 U.S.C. 2904 and 2906.

Policies and practices for storing, retrieving, accessing, retaining, and disposing of records in the system:

Storage:

Various portions of the system are maintained electronically and/or in paper files.

Retrievability:

Information can be retrieved electronically using an applicant's name or identifying number. An individual's name may be used to manually access material in alphabetized paper files.

Safeguards:

Building is locked during non-business hours. Records are kept in rooms that are locked during non-business hours. Records maintained in electronic form are password protected.

Retention and disposal:

Files are maintained in accordance with approved record retention schedules. Awarded proposals are transferred to the Federal Records Center for permanent retention. Declined proposals are destroyed five years after they are closed out.

System manager(s) and address:

Division Director of particular office or program maintaining such records, National Science Foundation, 4201 Wilson Boulevard, Arlington, Virginia 22230.

Notification procedure:

The NSF Privacy Act Officer should be contacted in accordance with procedures set forth at 45 CFR part 613.

Record access procedures:

See “Notification Procedure” above.

Contesting record procedures:

See “Notification Procedure” above.

Record source categories:

Information is obtained from the principal investigator, academic institution or other applicant, peer reviewers, and others.

Systems exempted from certain provisions of the act:

The portions of this system consisting of investigatory material that would identify reviewers or other persons supplying evaluations of NSF applicants and their proposals have been exempted at 45 CFR part 613 pursuant to 5 U.S.C. 552a(k)(5).

NSF-51

System name:

Reviewer/Proposal File and Associated Records.

System location:

Files are maintained centrally, and in some cases by individual NSF offices and programs, at the National Science Foundation, 4201 Wilson Boulevard, Arlington, Virginia 22230.

Categories of individuals covered by the system:

Reviewers who evaluate Foundation applicants and their proposals, either by submitting individual comments, or serving on review panels or site visit teams, or both.

Categories of records in the system:

The “Reviewer/Proposal File and Associated Records” system is a subsystem of the “Principal Investigator/Proposal File and Associated Records” system (NSF-50), and contains the reviewer's name, title of proposal(s) reviewed and identifying number, and other related material.

Authority for maintenance of the system:

44 U.S.C. 3101; 42 U.S.C. 1870.

Purpose of the system:

This system enables program offices to reference specific reviewers and maintain appropriate files for use in evaluating applications for grants or other support. NSF employees may access the system to help select reviewers as part of the merit review process, and to carry out other authorized internal duties.

Routine uses of records maintained in the system, including categories of users and the purposes of such uses:

Disclosure of information in this system may be made to:

1. Federal government agencies needing names of potential reviewers and specialists in particular fields.

2. Contractors, grantees, volunteers, experts, advisors, and other individuals who perform a service to or work on or under a contract, grant, cooperative agreement, advisory committee, committee of visitors, or other arrangement with or for the Federal government, as necessary to carry out their duties. The contractors are subject to the provisions of Privacy Act.

3. The Department of Justice or the Office of Management and Budget for the purpose of obtaining advice on the application of the Freedom of Information Act or Privacy Act to the records.

4. Another Federal agency, a court, or a party in litigation before a court or in an administrative proceeding being conducted by a Federal agency when the Government is a party to the judicial or administrative proceeding.

5. The Department of Justice, to the extent disclosure is compatible with the purpose for which the record was collected and is relevant and necessary to litigation or anticipated litigation, in which one of the following is a party or has an interest: (a) NSF or any of its components; (b) an NSF employee in his/her capacity; (c) an NSF employee in his/her individual capacity when the Department of Justice is representing or considering representing the employee; or (d) the United States, when NSF determines that litigation is likely to affect the Agency.

6. Representatives of the General Services Administration and the National Archives and Records Administration who are conducting records management inspections under the authority of 44 U.S.C. 2904 and 2906.

Policies and practices for storing, retrieving, accessing, retaining, and disposing of records in the system:

Storage:

Various portions of the system are maintained electronically and/or in paper files.

Retrievability:

Information can be accessed from the electronic database by addressing data contained in the database, including individual reviewer names. An individual's name may be used to manually access material in alphabetized paper files.

Safeguards:

Building is locked during non-business hours. Records are kept in rooms that are locked during non-business hours. Records maintained in electronic form are password protected.

Retention and disposal:

File is cumulative and is maintained indefinitely.

System manager(s) and address:

Division Director of particular office or program maintaining such records, National Science Foundation, 4201 Wilson Boulevard, Arlington, Virginia 22230.

Notification procedure:

The NSF Privacy Act Officer should be contacted in accordance with procedures set forth at 45 CFR part 613.

Record access procedures:

See “Notification Procedure” above.

Contesting record procedures:

See “Notification Procedure” above.

Record source categories:

Information is obtained from the individual reviewers, suggestions from other reviewers, the “Principal Investigator/Proposal File” (NSF-50), other applicants for NSF funding or other members of the research community, and from NSF program officers.

Systems exempted from certain provisions of the act:

The portions of this system consisting of investigatory material which would identify reviewers or other persons supplying evaluations of NSF applicants and their proposals have been exempted at 5 CFR part 613 pursuant to 5 U.S.C. 552a(k)(5).

[FR Doc. 04-10802 Filed 5-11-04; 8:45 am]

BILLING CODE 7555—01-M